DEPARTMENT OF COMMERCE

National Oceanic and Atmospheric Administration

RIN 0648-XG655

Endangered Species; File Nos. 21857, 22078, and 22324

AGENCY: National Marine Fisheries Service (NMFS), National Oceanic and Atmospheric Administration (NOAA), Commerce.

ACTION: Notice; receipt of applications for permits.

SUMMARY: Notice is hereby given that three applicants have applied in due form for permits to take smalltooth sawfish (Pristis pectinata) for purposes of scientific research, with one also requesting to receive, import, and export parts of five foreign species of sawfish, including dwarf (P. clavata), narrow (Anoxypristis cuspidata), green (P. zijsron), largetooth (P. Pristis), and non-U.S. DPS smalltooth sawfish for scientific research.

DATES: Written, telefaxed, or email comments must be received on or before January 11, 2019.

ADDRESSES: The permit requests and related documents are available for review by selecting “Records Open for Public Comment” from the Features box on the Applications and Permits for Protected Species (APPS) home page, https://apps.nmfs.noaa.gov, and then selecting the applicable File No. from the list of available applications. These documents are also available upon written request or by appointment in the Permits and Conservation Division, Office of Protected Resources, NMFS, 1315 East-West Highway, Room 13705, Silver Spring, MD 20910; phone (301) 427-8401; fax (301) 713-0376.

Written comments on the pertinent application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Malcolm Mohead or Erin Markin at (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

File No. 21857: Tonya Wiley, Havenworth Coastal Conservation, 5120 Beacon Road, Palmetto, FL 34221, requests a 10-year permit document the occurrence, distribution, biology, movements, and habitat use of smalltooth sawfish found in United States waters. Sampling may occur anywhere within the species' range, but primarily in the Gulf of Mexico coastal areas of Florida bordering Sarasota, Manatee, Hillsborough, Pinellas, Hernando and Pasco counties. To capture sawfish, researchers would use bottom longline, drum line, gillnet, angling gear, seine net, and cast net. Captured smalltooth sawfish would be sexed, measured, weighed (if possible), marked with passive integrated transponder (PIT) tags, dart tags, and roto tags, photographed, ultrasounded, and tissue sampled (i.e., blood, fin clip, muscle biopsy). A maximum of 50 neonate and juvenile life stages and 50 adult and sub-adult life stages would be taken annually with subsets of 25 of each life stage group fitted with internal or external telemetry tracking devices. Up to one sawfish from each life stage group may unintentionally die during research activities. Additionally, the applicant requests to collect, receive, necropsy, analyze, and archive up to 100 salvaged dead smalltooth sawfish specimens (whole or parts) that have been legally collected or archived elsewhere within the U.S.

File No. 22078: The NFMS Southeast Fisheries Science Center (Responsible Party: Theo Brainerd, Ph.D.), 75 Virginia Beach Drive Miami, FL 33149, requests a 10-year permit monitoring the biology, habitat use, and movements of smalltooth sawfish primarily within the Everglades National Park, the Ten Thousand Islands National Wildlife Refuge, and Florida Bay.

Sampling would be conducted year-round with gillnets, longlines, seines, cast nets, and angling gear. The applicant anticipates annually capturing and sampling a maximum of 150 sawfish annually (100 neonates and juveniles and 50 subadults and adults). Depending on the life stage and research objective, research activities would include: Measurement, weigh (when possible), ultrasound, photograph/video, genetic tissue fin clip, muscle biopsy, external dart tag, PIT tag, and blood draw. Additionally, subsets of each life stage group would receive internal or external telemetry devices prior to release. Up to one sawfish from each life stage group may unintentionally die during research activities. Additionally, the applicant requests to collect, receive, necropsy, analyze, and archive up to 30 salvaged dead smalltooth sawfish specimens (whole or parts) that have been legally collected or archived elsewhere within the U.S.

File No. 22324: The University of Florida (Responsible Party: Gavin Naylor, Ph.D.), Florida Museum of Natural History, Dickinson Hall, Gainesville, FL 32611, requests a 10-year permit to study smalltooth sawfish movements, habitat use, temporal and spatial distribution, and population structure using tagging, telemetry, and population genetic methods. Sawfish would be collected year-round in the Florida Bay and the upper Florida Keys using gillnets, longlines, and angling gear. The applicant anticipates capturing each year up to 60 sawfish, including 20 neonates and juveniles and 40 sub-adult and adult life stages. Research activities would include measurement, weigh (when possible), ultrasound, photograph/video, genetic tissue fin clip, muscle biopsy, skin biopsy, external dart tag, PIT tag, and blood draw. Subsets of each life stage group would receive either internal or external telemetry tracking devices prior to release. Additionally, the applicant further requests to collect, receive, necropsy, analyze and archive up to 100 salvaged dead smalltooth sawfish specimens (whole or parts) that have been legally collected or archived elsewhere within the U.S. Other objectives include receiving, importing, and exporting tissue samples (or parts) from five other foreign species of sawfish for scientific and archival purposes, including dwarf, narrow, green, largetooth, and non-U.S. DPS smalltooth sawfish.

Dated: December 6, 2018.
Julia Marie Harrison,
Chief, Permits and Conservation Division, Office of Protected Resources, National Marine Fisheries Service.

[FR Doc. 2018-26838 Filed 12-11-18; 8:45 am]

BILLING CODE 3510-22-P